DEPARTMENT OF COMMERCE

National Oceanic and Atmospheric Administration

Proposed Information Collection; Comment Request; Vessel Monitoring System Requirements Under the Western and Central Pacific Fisheries Convention

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 3, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Rini Ghosh, (808-725-5033) or Rini.Ghosh@noaa.gov.

SUPPLEMENTARY INFORMATION:

I. Abstract

This request is for an extension of a currently approved information collection. National Marine Fisheries Service (NMFS) has issued regulations under authority of the Western and Central Pacific Fisheries Convention Implementation Act (WCPFCIA; 16 U.S.C. 6901 et seq.) to carry out the obligations of the United States under the Convention on the Conservation and Management of Highly Migratory Fish Stocks in the Western and Central Pacific Ocean (Convention), including implementing the decisions of the Commission for the Conservation and Management of Highly Migratory Fish Stocks in the Western and Central Pacific Ocean (Commission). The regulations include a requirement for the owners and operators of U.S. vessels that fish for highly migratory species on the high seas in the Convention Area to carry and operate near real-time satellite-based position-fixing transmitters (“VMS units”) at all times except when the vessel is in port. As part of this requirement, vessel owners and operators must transmit: (1) “on/off reports” to NMFS whenever the VMS unit is turned off while the vessel is in port, (2) “activation reports” to NMFS prior to the first use of a VMS unit, and (3) automatic “position reports” from the VMS unit to NOAA and the Commission as part of a vessel monitoring system (VMS) operated by the Commission (50 CFR 300.219). Under this information collection, it is expected that vessel owners and operators would also need to purchase, install, and occasionally maintain the VMS units.

The information collected from the vessel position reports is used by NOAA and the Commission to help ensure compliance with domestic laws and the Commission's conservation and management measures, and are necessary in order to the United States to satisfy its obligations under the Convention.

II. Method of Collection

Respondents may submit on/off reports by facsimile or email, and they may submit activation reports by mail, facsimile or email. Position reports are transmitted electronically and automatically from the VMS unit.

III. Data

OMB Control Number: 0648-0596.

Form Number(s): None.

Type of Review: Regular submission (extension of a currently approved collection).

Affected Public: Business or other for-profit organizations; individuals or households.

Estimated Number of Respondents: 23.

Estimated Time per Response: VMS unit purchase and installation, 1 hr; Activation Reports, 5 min; on/off reports, 5 min; VMS unit maintenance, 1 hr.

Estimated Total Annual Burden Hours: 57 hours.

Estimated Total Annual Cost to Public: $40,083 ($23,000 for VMS purchase and installation; $5,750 for VMS unit maintenance; $11,333 for position reports).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 28, 2018.
Sarah Brabson,
NOAA PRA Clearance Officer.

[FR Doc. 2018-21523 Filed 10-2-18; 8:45 am]

BILLING CODE 3510-22-P